DEPARTMENT OF AGRICULTURE

Animal and Plant Health Inspection Service

[Docket No. 01-066-1]

Notice of Request for Extension of a Currently Approved Information Collection

AGENCY: Animal and Plant Health Inspection Service, USDA.

ACTION: Extension of approval of an information collection; comment request.

SUMMARY: In accordance with the Paperwork Reduction Act of 1995, this notice announces the Animal and Plant Health Inspection Service's intention to request an extension of approval of a currently approved information collection in support of its imported fire ant regulations.

DATES: We invite you to comment on this docket. We will consider all comments that we receive by November 26, 2001.

ADDRESSES: Please send four copies of your comment (an original and three copies) to: Docket No. 01-066-1, Regulatory Analysis and Development, PPD, APHIS, Suite 3C03, 4700 River Road Unit 118, Riverdale, MD 20737-1238.

Please state that your comment refers to Docket No. 01-066-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the imported fire ant regulations, contact Mr. Charles L. Brown, Staff Officer, Invasive Species and Pest Management, Plant Health Programs, PPQ, APHIS, 4700 River Road Unit 134, Riverdale, MD 20737-1236, (301) 734-4838. For copies of more detailed information on the information collection, contact Mrs. Celeste Sickles, APHIS' Information Collection Coordinator, at (301) 734-7477.

SUPPLEMENTARY INFORMATION: Title: Imported Fire Ant.

OMB Number: 0579-0102.

Type of Request: Extension of approval of an information collection.

Abstract: The Animal and Plant Health Inspection Service (APHIS) of the U.S. Department of Agriculture is responsible for preventing the interstate spread of injurious plant pests, such as the imported fire ant, from infested areas of the United States to noninfested areas. Implementing this responsibility requires the use of domestic quarantines to restrict the interstate movement of regulated articles that could carry the plant pest. The Plant Protection Act authorizes the Department to carry out this mission.

Nursery owners who elect to enter our Imported Fire Ant-Free Nursery Program visually inspect their premises for the presence of imported fire ants, record the results in a notebook or log sheet, and record any treatments they perform if fire ants are discovered.

State plant protection officials collect this information by interviewing the nursery owner, reviewing the owner's inspection and treatment records, and inspecting the nursery site. The information obtained is used for issuing the various certificates, permits, and other documents that enable the nursery owner to move regulated items (such as potted nursery plants, sod, or other products) across State lines to markets outside the area under quarantine for imported fire ant.

Without this information collection, we would be unable to collect the information we need to effectively implement our imported fire ant quarantine. Persons who grow, handle, or move regulated nursery articles interstate may also enter into a compliance agreement with APHIS. Compliance agreement candidates must meet all applicable State training and certification standards regarding pesticide application. Any person who enters into a compliance agreement with APHIS must agree to comply with all provisions of the Imported Fire Ant Quarantine and Regulations in 7 CFR 301.81 through 301.81-10.

We are asking the Office of Management and Budget (OMB) to approve our use of this information collection activity for an additional 3 years.

The purpose of this notice is to solicit comments from the public (as well as affected agencies) concerning our information collection. These comments will help us:

(1) Evaluate whether the proposed collection of information is necessary for the proper performance of the Agency functions, including whether the information will have practical utility;

(2) Evaluate the accuracy of our estimate of the burden of the proposed collection of information, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.42371 hours per response.

Respondents: U.S. nursery owners, shippers, and State and county plant health protection authorities.

Estimated annual number of respondents: 4,024.

Estimated annual number of responses per respondent: 2.93836.

Estimated annual number of responses: 11,824.

Estimated total annual burden on respondents: 5,010 hours. (Due to averaging, the total annual burden hours may not equal the product of the annual number of responses multiplied by the reporting burden per response.)

All responses to this notice will be summarized and included in the request for OMB approval. All comments will also become a matter of public record.

Done in Washington, DC, this 20th day of September 2001.
Bobby R. Acord,
Acting Administrator, Animal and Plant Health Inspection Service.

[FR Doc. 01-24054 Filed 9-25-01; 8:45 am]

BILLING CODE 3410-34-U